NATIONAL MEDIATION BOARD

29 CFR Parts 1202 and 1206

[Docket No. C-6964]

RIN 3140-ZA00

Representation Election Procedure

AGENCY: National Mediation Board.

ACTION: Final rule; delay of effective date.

SUMMARY: The National Mediation Board (NMB) is delaying the effective date of its rule regarding representation election procedures from June 10, 2010 to June 30, 2010. The purpose of this notice is to notify participants under the Railway Labor Act (RLA) that the rule will apply to applications filed on or after June 30, 2010.

DATES: Effective Date: The effective date of the rule amending 29 CFR Parts 1202 and 1206 published at 75 FR 26062, May 11, 2010, is delayed until June 30, 2010.

FOR FURTHER INFORMATION CONTACT: Mary Johnson, General Counsel, National Mediation Board, 202-692-5050, infoline@nmb.gov.

SUPPLEMENTARY INFORMATION: On May 11, 2010, the NMB published a Final Rule in the Federal Register (75 FR 26062) with the effective date of June 10, 2010. Due to upcoming proceedings in litigation related to the Final Rule, the NMB is delaying the implementation of the rule for 20 days. The new effective date is June 30, 2010. No other changes to the Representation Election Procedure Rule have been made. The NMB will notify participants if there are any further changes.

Dated: June 3, 2010.
Mary Johnson,
General Counsel, National Mediation Board.

[FR Doc. 2010-13696 Filed 6-7-10; 8:45 am]

BILLING CODE P